ENVIRONMENTAL PROTECTION AGENCY

40 CFR Parts 52 and 97

[EPA-R05-OAR-2007-0390; FRL-8501-1]

Approval of Implementation Plans; Ohio; Clean Air Interstate Rule

AGENCY: Environmental Protection Agency (EPA).

ACTION: Withdrawal of direct final rule.

SUMMARY: Due to the receipt of an adverse comment, the EPA is withdrawing the October 16, 2007 (72 FR 58546), direct final rule approving the State of Ohio's September 26, 2007, request to revise the Ohio State Implementation Plan (SIP) by incorporating provisions related to the implementation of EPA's Clean Air Interstate Rule (CAIR). In the direct final rule, EPA stated that if adverse comments were submitted by November 15, 2007, the rule would be withdrawn and not take effect. On November 9, 2007, EPA received a comment. EPA believes this comment is adverse and, therefore, EPA is withdrawing the direct final rule. EPA will address the comment in a subsequent final action based upon the proposed action also published on October 16, 2007 (72 FR 58571). EPA will not institute a second comment period on this action.

DATES: The direct final rule published at 72 FR 58546 on October 16, 2007, is withdrawn as of December 5, 2007.

FOR FURTHER INFORMATION CONTACT: John Paskevicz, Engineer, Criteria Pollutant Section, Air Programs Branch (AR-18J), Environmental Protection Agency, Region 5, 77 West Jackson Boulevard, Chicago, Illinois 60604, (312) 886-6084, paskevicz.john@epa.gov.

List of Subjects

40 CFR Part 52

Environmental protection, Air pollution control, Electric utilities, Incorporation by reference, Intergovernmental relations, Nitrogen oxides, Ozone, Particulate matter, Reporting and recordkeeping requirements, Sulfur dioxide.

40 CFR Part 97

Environmental protection, Administrative practice and procedure, Air pollution control, Electric utilities, Intergovernmental relations, Nitrogen oxides, Ozone, Particulate matter, Reporting and recordkeeping requirements, Sulfur dioxide.

Authority: 42 U.S.C. 7401 et seq.

Dated: November 23, 2007.
Gary Gulezian,
Acting Regional Administrator, Region 5.

Accordingly, the amendments to 40 CFR 52.1870 and part 97 which were published in the Federal Register on October 16, 2007 (72 FR 58546) on pages 58552-58553 are withdrawn as of December 5, 2007.

[FR Doc. E7-23504 Filed 12-4-07; 8:45 am]

BILLING CODE 6560-50-P